SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: November 1-30, 2020.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists GF Registration for projects, described below, pursuant to 18 CFR 806, Subpart E for the time period specified above: Grandfathering Registration Under 18 CFR part 806, subpart E:

1. Shippensburg University, GF Certificate No. GF-202011127, Shippensburg Township, Cumberland County, Pa.; Wells 1, 2, 3, and 5; Issue Date: November 4, 2020.

2. West Earl Water Authority—Public Water Supply System, GF Certificate No. GF-202011128, West Earl Township, Lancaster County, Pa.; Nolt Well; Issue Date: November 4, 2020.

3. Biglerville Borough Authority—Biglerville Borough Water Company, GF Certificate No. GF-202011129, Biglerville Borough and Butler Township, Adams County, Pa.; Wells 5 and 6; Issue Date: November 5, 2020.

4. Greenfield Township Municipal Authority—Public Water Supply System, GF Certificate No. GF-202011130, Greenfield Township, Blair County, Pa.; Wells 1 and 3; Issue Date: November 5, 2020.

5. City of Cortland—Cortland Water Department, GF Certificate No. GF-202011131, City of Cortland, Cortland County, N.Y.; Wells 3, 4, and 5; Issue Date: November 5, 2020.

6. New Freedom Borough—New Freedom Borough Water, GF Certificate No. GF-202011132, New Freedom Borough, York County, Pa.; Wells 1, 3, 4, and 8; Issue Date: November 5, 2020.

7. Clinton County Recreation Authority—Belles Springs Golf Course, GF Certificate No. GF 202011133, Lamar Township, Clinton County, Pa.; Spring Fed Pond; Issue Date: November 24, 2020.

8. Village of McGraw—Public Water Supply System, GF Certificate No. GF-202011134, Village of McGraw, Cortland County, N.Y.; Academy St. Well 1 (original) and Academy St. Well 1 (replacement); Issue Date: November 24, 2020.

9. Conagra Brands—Milton, Pa., GF Certificate No. GF-202011135, Milton Borough, Northumberland County, Pa.; Wells 1 and 2 and consumptive use; Issue Date: November 24, 2020.

(Authority: Pub. L. 91-575, 84 Stat. 1509 et seq., 18 CFR parts 806 and 808.)

Dated: December 15, 2020.
Jason E. Oyler,
General Counsel and Secretary to the Commission.

[FR Doc. 2020-27958 Filed 12-17-20; 8:45 am]

BILLING CODE 7040-01-P